FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at 202/523-5793 or tradeanalysis@fmc.gov.

Agreement No.: 012200-001.

Title: The G6/Zim Transpacific Vessel Sharing Agreement.

Parties: American President Lines, Ltd. and APL Co. Pte, Ltd. (operating as one Party); Hapag-Lloyd AG; Hyundai Merchant Marine Co., Ltd.; Mitsui O.S.K. Lines, Ltd.; Nippon Yusen Kaisha; and Orient Overseas Container Line, Limited; and OOCL (Europe) Limited (all operating as one party); and Zim Integrated Shipping Services Limited.

Filing Party: David F. Smith, Esq.; Cozen O'Connor; 1627 I Street, NW. Suite 1100; Washington, DC 20006.

Synopsis: The amendment would expand the geographic scope of the agreement to include all ports in the U.S. and would make other corresponding changes relating to the services in the expanded scope.

Agreement No.: 012258.

Title: The G6/HSDG Atlantic Space Charter Agreement.

Parties: American President Lines, Ltd. and APL Co. Pte, Ltd. (operating as one party); Hapag-Lloyd AG and Hapag-Lloyd USA LLC (operating as one party); Hyundai Merchant Marine Co., Ltd.; Mitsui O.S.K. Lines, Ltd.; Nippon Yusen Kaisha; Orient Overseas Container Line, Limited; and OOCL (Europe) Limited (all operating as one party); and Hamburg Sud.

Filing Party: David F. Smith, Esq.; Cozen O'Connor; 1627 I Street, NW. Suite 1100; Washington, DC 20006.

Synopsis: The agreement would authorize the G6 lines to charter space to Hamburg Sud in the trade between North Europe and the United Kingdom, on the one hand, and the U.S. Atlantic Coast, on the other hand. The agreement would also authorize the parties to enter into arrangements related to the chartering of such space.

Agreement No.: 012059.

Title: COSCON/ELJSA Vessel Sharing Agreement.

Parties: COSCO Container Lines Company, Limited and Evergreen Line Joint Service Agreement.

Filing Party: Eric. C. Jeffrey, Esq.; Nixon Peabody LLP; 401 9th Street NW., Suite 900; Washington, DC 20004.

Synopsis: The agreement authorizes the parties to charter space on each other's vessels, coordinate sailings, and otherwise cooperate in the carriage of cargo in the trade between China (including Hong Kong), Taiwan, Singapore, Japan, Korea, Vietnam, and Canada, on the one hand, and the U.S. West Coast, on the other hand.

By Order of the Federal Maritime Commission.
Dated: April 4, 2014.
Rachel E. Dickon,
Assistant Secretary.

[FR Doc. 2014-07953 Filed 4-8-14; 8:45 am]

BILLING CODE 6730-01-P